DEPARTMENT OF THE INTERIOR

Bureau of Land Management

[LLIDI01000-L143000000.EU0000; IDI-19600-03]

Notice of Realty Action: Non-Competitive (Direct) Sale of Public Lands and Termination of a Recreation and Public Purposes Act Classification, Madison County, ID

AGENCY: Bureau of Land Management, Interior.

ACTION: Notice of realty action.

SUMMARY: The Bureau of Land Management (BLM) proposes to sell a 139.76-acre parcel of public land in Madison County, Idaho, to Madison County for continued use as a construction and demolition (C&D) landfill. In addition, this notice will terminate the Recreational and Public Purpose Act (R&PPA) classification that encumbers the land identified for sale.

DATES: Comments regarding this direct sale must be received by the BLM at the address listed below by August 16, 2010.

ADDRESSES: Written comments regarding the proposed sale should be addressed to Wendy Reynolds, Upper Snake Field Office Manager, BLM Upper Snake Field Office, 1405 Hollipark Drive, Idaho Falls, Idaho 83401. Comments received in electronic form, such as e-mail or by fax, will not be considered.

FOR FURTHER INFORMATION CONTACT: BLM Upper Snake Field Office at the above address or (208) 524-7500.

SUPPLEMENTARY INFORMATION: The following described public land is proposed for sale:

Boise Meridian

T. 6 N., R. 38 E.,

Sec. 26, lots 11, 12, and 13;

Sec. 27, lots 9 and 14.

The area described contains 139.76 acres, more or less, in Madison County, Idaho.

The authority for the sale is found in Sections 203 and 209 of the Federal Land Policy and Management Act (FLPMA) of October 21, 1976 (43 U.S.C. 1713 and 1719) and regulations found at 43 CFR 2710 and 2720. This property is not required for Federal purposes and was identified for disposal in the November 25, 2008 amendment to the BLM Medicine Lodge Resource Management Plan (1985).

On July 2, 2010 the property will be segregated from all forms of appropriation under the public land laws, including the mining laws, except as it relates to a direct sale to Madison County under Section 203 of FLPMA as herein proposed. The segregative effect will terminate upon issuance of a patent, publication in the Federal Register of a termination of the segregation, or on July 2, 2012, whichever occurs first.

In addition, the property was classified on September 27, 1983 under the R&PPA. A portion of the property was classified as suitable for recreation and public purposes (T. 6 N., R. 38 E., lots 11 and 12 of sec. 26 and lots 9 and 14 of sec. 27), and the remainder of the property (T. 6 N., R. 38 E., lot 13 of sec. 26) was classified as non-suitable for recreation and public purposes. This notice terminates both the suitable and non-suitable R&PPA classifications on these lands. These classifications are no longer needed, as the property is proposed to be sold. On July 2, 2010, the R&PPA classification identified above and any associated segregations will be terminated, and the lands described above shall be open to direct sale to Madison County under Section 203 of FLPMA, subject to valid existing rights, the provisions of existing withdrawals and other segregations of record, and the requirements of applicable laws. The Madison County Commissioners propose to continue using the property as a C&D landfill to meet public needs.

On November 23, 1983, the BLM issued Madison County a lease under the R&PPA, as amended, for a municipal solid waste landfill. In 1994, the County stopped using the site as a municipal solid waste landfill and changed the use of the site to a C&D landfill. At this time, the County would like to purchase the property it leased under the R&PPA as well as an additional 39.46 acres to be used as a source of material for cover and future expansion of the C&D landfill. These lands are being offered for direct sale to Madison County at no less than the appraised Fair Market Value of $38,500. The sale meets the criteria for direct sale, pursuant to 43 CFR 2711.3-3, which allows direct sales when in the opinion of the authorized officer a competitive sale is not appropriate and the public interest would best be served by a direct sale, such as a sale to a State or local government.

Upon patent, if and when issued, the unreserved mineral interests will be conveyed simultaneously with the sale of the land. These unreserved mineral interests have been determined to have no known mineral values pursuant to 43 CFR 2720.2(a). Acceptance of the sale offer will constitute an application for conveyance of those unreserved mineral interests. The Purchaser will be required to pay a $50.00 non-refundable fee for conveyance of the mineral interests.

The patent, if and when issued, will contain the following reservations, covenants, terms and conditions:

1. Rights-of-way for ditches and canals constructed by the authority of the United States will be reserved pursuant to the Act of August 30, 1890 (43 U.S.C. 945).

2. The conveyance will be subject to valid existing rights of record, including, but not limited to, those documented on the BLM public land records at the time of conveyance of the lands.

3. Pursuant to the requirements established by Section 120(h) of the Comprehensive Environmental Response, Compensation and Liabilities Act (CERCLA), 42 U.S.C. 9620(h), as amended by the Superfund Amendments and Reauthorization Act of 1988, (100 Stat. 1670), the patentee, its successors or assigns, by accepting a patent, will agree to indemnify, defend, and hold harmless the United States, its officers, agents, representatives, and employees (hereinafter “United States”) from any costs, damages, claims, causes of action in connection with the patentee's use, occupancy, or operations on the patented real property. This agreement includes, but is not limited to, acts or omissions of the patentee and its employees, agents, contractors, lessees, or any third party arising out of, or in connection with, the patentee's use, occupancy, or operations on the patented real property which cause or give rise to, in whole or in part: (1) Violations of Federal, State and local laws and regulations that are now, or may in the future become, applicable to the real property and/or applicable to the use, occupancy, and/or operations thereon; (2) judgments, claims, or demands of any kind assessed against the United States; (3) costs, expenses, or damages of any kind incurred by the United States; (4) releases or threatened releases of solid or hazardous waste(s) and/or hazardous substance(s), pollutant(s), or contaminant(s), and/or petroleum product(s) or derivative(s) of a petroleum product, as defined by Federal or State environmental laws; of, on, into, or under land, property, and other interests of the United States; (5) natural resource damages as defined by Federal and State law; or (6) other activities by which solid or hazardous substance(s) or waste(s), pollutant(s) or contaminant(s), or petroleum product(s) or derivative(s) of a petroleum product as defined by Federal or State environmental laws are generated, stored, used, or otherwise disposed of on the patented real property, and any cleanup response, remedial action, or other actions related in any manner to the said solid or hazardous substance(s) or waste(s) or contaminant(s), or petroleum product(s) or derivative(s) of a petroleum product as defined by Federal or State laws. Patentee shall stipulate that it will be solely responsible for compliance with all applicable Federal, State, and local environmental laws and regulatory provisions, throughout the life of the facility, including any closure and/or post-closure requirements that may be imposed with respect to any physical plant and or facility upon the real property under any Federal, State, or local environmental laws or regulatory provisions. This covenant shall be construed as running with the patented real property and may be enforced by the United States in a court of competent jurisdiction.

4. The conveyance will be also subject to additional terms and conditions that the authorized officer deems appropriate to ensure proper land use and protection of the public interest.

Public Comments: For a period until August 16, 2010, interested parties and the general public may submit written comments to the BLM Upper Snake Field Office at the address above. Comments, including names and street addresses of respondents, will be available for public review at the BLM Upper Snake Field Office during regular business hours, except holidays. Individual respondents may request confidentiality. Before including your address, phone number, e-mail address, or other personal identifying information in your comment, you should be aware that your entire comment—including your personal identifying information—may be made publicly available at any time. While you can ask us in your comment to withhold your personal information from public review, we cannot guarantee that we will be able to do so.

Any adverse comments will be reviewed by the BLM State Director, Idaho State Office, who may sustain, vacate, or modify this realty action in whole or in part. In the absence of any adverse comments, this realty action will become the final determination of the Department of the Interior. Information concerning the proposed land sale, including the appraisal report, planning and environmental documents, and the mineral report is available for review in the BLM Upper Snake Field Office at the address listed above.

These parcels will not be sold until at least August 31, 2010.

Authority: 43 CFR 2711.1-2.

Wendy Reynolds,
Field Manager, BLM Upper Snake Field Office.

[FR Doc. 2010-16260 Filed 7-1-10; 8:45 am]

BILLING CODE 4310-GG-P